DEPARTMENT OF HOMELAND SECURITY

Federal Emergency Management Agency

[Docket ID FEMA-2013-0012; OMB No. 1660-NEW]

Agency Information Collection Activities; Proposed Collection; Comment Request: Community Drill Day Registration

AGENCY: Federal Emergency Management Agency, DHS.

ACTION: Notice.

SUMMARY: The Federal Emergency Management Agency (FEMA), as part of its continuing effort to reduce paperwork and respondent burden, invites the general public and other Federal agencies to take this opportunity to comment on a new information collection. In accordance with the Paperwork Reduction Act of 1995, this notice seeks comments concerning the online registration process for the FEMA Community Drill Day.

DATES: Comments must be submitted on or before June 17, 2013.

ADDRESSES: To avoid duplicate submissions to the docket, please use only one of the following means to submit comments:

(1) Online. Submit comments at www.regulations.gov under Docket ID FEMA-2010-0012. Follow the instructions for submitting comments.

(2) Mail. Submit written comments to Docket Manager, Office of Chief Counsel, DHS/FEMA, 500 C Street SW., Room 835, Washington, DC 20472-3100, referencing Docket ID FEMA-2010-0012.

(3) Facsimile. Submit comments to (703) 483-2999 referencing Docket ID FEMA-2010-0012.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Chad Stover, Individual and Community Preparedness Division Program Specialist, FEMA, 202-786-9860 for additional information. You may contact the Records Management Division for copies of the proposed collection of information at facsimile number (202) 646-3347 or email address: FEMA-Information-Collections-Management@dhs.gov.

SUPPLEMENTARY INFORMATION: As part of Presidential Policy Directive 8 (PPD-8): National Preparedness, the President tasked the Secretary of Homeland Security to “coordinate a comprehensive campaign to build and sustain national preparedness, including public outreach and community-based and private-sector programs to enhance national resilience.” FEMA intends to conduct one or more Community Drill Days, coordinated nationally by FEMA. Schools, businesses, faith-based organizations, governments at all levels, other community organizations, and families will participate in this Community Drill Day by voluntarily taking part in a simultaneous multi-hazard drill and public education effort.

In order to fulfill its mission, the Federal Emergency Management Agency Individual and Community Preparedness Division; will collect information from individuals and organizations through the Community Drill Day online registration.

FEMA's Individual and Community Preparedness Division would like to create a new online information collection process by which individuals and organizations submit information via a Web site. Registration provides an individual or organization links to educational information and activities about preparedness and response related to specific hazards. Registrants will receive important updates and messages from FEMA. This registry supports the mission of FEMA's Individual and Community Preparedness Division, to help achieve greater community resiliency nationwide.

Collection of Information

Title: Community Drill Day Registration.

OMB Control Number: 1660-NEW.

Type of Information Collection: New information collection.

FEMA Forms: FEMA Form 008-0-8, Community Drill Day.

Abstract: FEMA's Individual and Community Preparedness Division is requesting comments on a new information collection for its registration of individuals and organizations for the Community Drill Day. The registration process allows for individuals and organizations to submit information on their participation in Community Drill Day. The registration process will provide FEMA with valuable information about the public's participation in Community Drill Day that will inform future outreach strategies related to participation in Community Drill Day.

Affected Public: Individuals or households; Farms; Business or other for-profit; Federal Government; Not-for-profit institutions; State, local or Tribal Government.

Number of Respondents: 50,000.

Number of Responses: 50,000.

Estimated Total Annual Burden Hours: 15,000 hours.

Table A.1—Estimated Annualized Burden Hours and Costs
Type of respondent | Form name/form No. | Number of respondents | Number of responses per respondent | Total number of responses | Avg. burden per response (in hours) | Total annual burden (in hours) | Avg. hourly wage rate | Total annual respondent cost
Individuals or Households; Farms; Business or other for-profit; Federal Government; Not-for-profit institutions; State, local or Tribal Government | FEMA Form 008-0-8/Community Drill Day Registration | 50,000 | 1 | 50,000 | .3 hour (18 mins.) | 15,000 | $21.74* | $326,100.00
Total |  | 50,000 |  | 50,000 |  | 15,000 |  | $326,100.00
* Note: The “Avg. Hourly Wage Rate” for each respondent includes a 1.4 multiplier to reflect a fully-loaded wage rate. http://www.bls.gov/news.release/ocwage.htm

Estimated Cost: The estimated annual cost to respondents for the hour burden is $326,100.00. There are no annual costs to respondents operations and maintenance costs for technical services. There is no annual start-up or capital costs. The cost to the Federal Government is $49,210.00.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: April 10, 2013.
Charlene D. Myrthil,
Director, Records Management Division, Mission Support Bureau, Federal Emergency Management Agency, Department of Homeland Security.

[FR Doc. 2013-09077 Filed 4-17-13; 8:45 am]

BILLING CODE 9111-27-P